DEPARTMENT OF DEFENSE

Office of the Secretary

U.S. Court of Appeals for the Armed Forces Proposed Rule Changes

ACTION: Notice of Proposed Changes to the Rules of Practice and Procedure of the United States Court of Appeals for the Armed Forces.

SUMMARY: This notice announces the following proposed changes to Rules 15, 21(b)(1), 24, 26, 37, and 38 of the Rules of Practice and Procedure, United States Court of Appeals for the Armed Forces for public notices and comment.

FOR FURTHER INFORMATION CONTACT: William A. DeCicco, Clerk of Court, telephone (202) 761-1448 (ext. 600).

Dated: June 4, 2004.
L.M. Bynum,
Alternate OSD Federal Register, Liaison Officer, DoD.

BILLING CODE 5001-06-M

[FR Doc. 04-13118 Filed 6-14-04; 8:45 am]

BILLING CODE 5001-06-C